COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action deletes products and services from the Procurement List that were previously furnished by nonprofit agencies employing persons who are blind or have other severe disabilities.

DATES: Effective Date: July 22, 2013.

ADDRESSES: Committee for Purchase From People Who Are Blind or Severely Disabled, 1401 S. Clark Street, Suite 10800, Arlington, Virginia 22202-4149.

FOR FURTHER INFORMATION CONTACT: Barry S. Lineback, Telephone: (703) 603-7740, Fax: (703) 603-0655, or email CMTEFedReg@AbilityOne.gov.

SUPPLEMENTARY INFORMATION:

Deletions

On 4/12/2013 (78 FR 21916); 4/26/2013 (78 FR 24732-24733); 5/3/2013 (78 FR 25970-25971); and 5/10/2013 (78 FR 27368-27369), the Committee for Purchase From People Who Are Blind or Severely Disabled published notices of proposed deletions from the Procurement List.

After consideration of the relevant matter presented, the Committee has determined that the products and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and services to the Government.

3. There are no known regulatory alternatives which would accomplish the objectives of the Javits-Wagner-O'Day Act (41 U.S.C. 8501-8506) in connection with the products and services deleted from the Procurement List.

End of Certification

Accordingly, the following products and services are deleted from the Procurement List:

Products

NSN: 8415-00-NIB-0012—Sweatshirt, USMA, Hooded, Gray, Large

NSN: 8415-00-NIB-0013—Sweatshirt, USMA, Hooded, Gray, X-Large

NSN: 8415-00-NIB-0014—Sweatshirt, USMA, Hooded, Gray, Medium

NSN: 8415-00-NIB-0015—Sweatshirt, USMA, Crewneck, Gray, Large

NSN: 8415-00-NIB-0016—Sweatshirt, USMA, Crewneck, Gray, X-Large

NSN: 8415-00-NIB-0017—Sweatshirt, USMA, Crewneck, Gray, Medium

NSN: 8415-00-NIB-0018—Sweatpants, USMA, Gray, Large

NSN: 8415-00-NIB-0019—Sweatpants, USMA, Gray, X-Large

NSN: 8415-00-NIB-0020—Sweatpants, USMA, Gray, Medium

NPA: Blind Industries & Services of Maryland, Baltimore, MD

Contracting Activity: W40M Natl Region Contract OFC, Fort Belvoir, VA

NSN: 7930-00-664-6910—Glass Cleaner, Biobased, Heavy Duty, 8 oz.

NPA: Lighthouse for the Blind of Houston, Houston, TX

Contracting Activity: General Services Administration, Fort Worth, TX

Safety-Walk, Tapes & Treads—660 Brown General Purpose

NSN: 7220-00-NIB-0050

NSN: 7220-00-NIB-0051

NSN: 7220-00-NIB-0052

NPA: Louisiana Association for the Blind, Shreveport, LA

Contracting Activity: General Services Administration, New York, NY

NSN: 7530-01-588-1145—DAYMAX System, 2012, Planner, 7-hole, Digital Camouflage

NSN: 7530-01-587-8929—DAYMAX System, 2012, JR Deluxe Planner, 6-hole, Black

NSN: 7530-01-587-8929L—DAYMAX System, 2012, JR Deluxe Planner, 6-hole, Black w/logo

NSN: 7530-01-587-8924L—DAYMAX System, 2012, LE Planner, 3-hole, Navy w/logo

NSN: 7530-01-587-8924—DAYMAX System, 2012, LE Planner, 3-hole, Navy

NSN: 7530-01-587-8923L—DAYMAX System, 2012, Planner, 7-hole, Desert Camouflage w/logo

NSN: 7530-01-587-8923—DAYMAX System, 2012, Planner, 7-hole, Desert Camouflage

NSN: 7530-01-587-8922—DAYMAX System, 2012, JR Deluxe Planner, 6-hole, Digital Camouflage, Black

NSN: 7530-01-587-8922L—DAYMAX System, 2012, JR Deluxe Planner, 6-hole, Digital Camouflage, Black w/logo

NSN: 7530-01-587-8921L—DAYMAX System, 2012, IE Planner, 3-hole, Navy w/logo

NSN: 7530-01-587-8921—DAYMAX System, 2012, IE Planner, 3-hole, Navy

NSN: 7530-01-587-8920L—DAYMAX System, 2012, DOD Planner, 3-hole, Burgundy

NSN: 7530-01-587-8920—DAYMAX System, 2012, DOD Planner, 3-hole, Burgundy

NSN: 7530-01-587-8919—DAYMAX System, 2012, GLE Planner, 7-hole, Navy

NSN: 7530-01-587-8919L—DAYMAX System, 2012, GLE Planner, 7-hole, Navy w/logo

NSN: 7530-01-587-8918L—DAYMAX System, 2012, Planner, 7-hole, Woodland Camouflage w/logo

NSN: 7530-01-587-8918—DAYMAX System, 2012, Planner, 7-hole, Woodland Camouflage

NSN: 7530-01-587-8144—DAYMAX System, 2012, GLE Planner, 7-hole, Burgundy

NSN: 7530-01-587-8144L—DAYMAX System, 2012, GLE Planner, 7-hole, Burgundy

NSN: 7530-01-587-8138—DAYMAX System, 2012, GLE Planner, 7-hole, Black

NSN: 7530-01-587-8138L—DAYMAX System, 2012, GLE Planner, 7-hole, Black w/logo

NSN: 7530-01-587-8133—DAYMAX System, 2012, LE Planner, 3-hole, Burgundy

NSN: 7530-01-587-8133L—DAYMAX System, 2012, LE Planner, 3-hole, Burgundy w/logo

NSN: 7530-01-587-8132—DAYMAX System, 2012, IE Planner, 3-hole, Black

NSN: 7530-01-587-8132L—DAYMAX System, 2012, IE Planner, 3-hole, Black w/logo

NSN: 7530-01-587-8131L—DAYMAX System, 2012, LE Planner, 3-hole, Black w/logo

NSN: 7530-01-587-8131—DAYMAX System, 2012, LE Planner, 3-hole, Black

NSN: 7530-01-587-8130L—DAYMAX System, 2012, IE Planner, 3-hole, Burgundy

NSN: 7530-01-587-8130—DAYMAX System, 2012, IE Planner, 3-hole, Burgundy

NSN: 7530-01-587-8125—DAYMAX System, 2012, JR Planner, 6-hole, Burgundy

NSN: 7530-01-587-8125L—DAYMAX System, 2012, JR Planner, 6-hole, Burgundy w/logo

NSN: 7530-01-587-8124L—DAYMAX System, 2012, JR Planner, 6-hole, Navy w/logo

NSN: 7530-01-587-8124—DAYMAX System, 2012, JR Planner, 6-hole, Navy

NSN: 7530-01-587-8123—DAYMAX System, 2012, JR Planner, 6-hole, Black

NSN: 7530-01-587-8123L—DAYMAX System, 2012, JR Planner, 6-hole, Black w/logo

NSN: 7510-01-587-8925—DAYMAX System, 2012, Week at a View, GLE, 7-hole

NSN: 7510-01-587-8201—DAYMAX System, 2012, Tabbed Monthly, GLE, 7-hole

NSN: 7510-01-587-8199—DAYMAX System, 2012, Tabbed Monthly, IE/LE, 3-hole

NSN: 7510-01-587-8198—DAYMAX System, 2012, Week at a View, IE/LE, 3-hole

NSN: 7510-01-587-8194—DAYMAX System, 2012, Month at a View, IE/LE, 3-hole

NSN: 7510-01-587-8184—DAYMAX System, 2012, Day at a View, GLE, 7-hole

NSN: 7510-01-587-8175—DAYMAX System, 2012, Month at a View, GLE, 7-hole

NSN: 7510-01-587-8170—DAYMAX System, 2012, Day at a View, IE/LE, 3-hole

NSN: 7510-01-587-8122—DAYMAX System, 2012, Tabbed Monthly, JR, 6-hole

NSN: 7510-01-545-4432—DAYMAX System, 2012, Calendar Pad, Type I

NSN: 7510-01-545-3771—DAYMAX System, 2012, Calendar Pad, Type II

NSN: 7530-01-545-3751—DAYMAX System, 2012, Appointment Refill

NSN: 7530-01-588-1144—Digital Camouflage Time Management System

NSN: 7530-01-573-4845—JR Deluxe Version TMS, Black

NSN: 7530-01-573-4845L—JR Deluxe Version TMS, Black w/Logo

NSN: 7530-01-573-4846L—JR Deluxe Version TMS, Digital Camouflage w/Logo

NSN: 7530-01-573-4846—JR Deluxe Version TMS, Digital Camouflage

NPA: The Easter Seal Society of Western Pennsylvania, Pittsburgh, PA

Contracting Activity: General Services Administration, New York, NY

Hydramax Hydration System

NSN: 8465-01-525-1560—Alpha, Black, 120 oz

NSN: 8465-01-525-1561—Alpha, Desert, 120 oz

NSN: 8465-01-524-2763—Mustang, Desert, 120 oz

NPA: The Lighthouse for the Blind, Inc. (Seattle Lighthouse), Seattle, WA

Contracting Activity: General Services Administration, Fort Worth, TX

NSN: 2540-00-737-3309—Cushion Seat, Vehicular

NPA: EnableUtah, Ogden, UT

Contracting Activity: Defense Logistics Agency Land and Maritime, Columbus, OH

Medium Weight Plastic Cutlery

NSN: 7340-00-NIB-0005

NSN: 7340-00-NIB-0006

NSN: 7340-00-NIB-0007

NSN: 7340-00-NIB-0008

NPA: L.C. Industries for the Blind, Inc., Durham, NC.

Contracting Activity: Dept of the Army, W40M NATL Region Contract OFC, Fort Belvoir, VA.

Emergency Administrative Kit

NSN: 7520-00-NIB-1738—50 Person.

NPA: Associated Industries for the Blind, Milwaukee, WI.

Contracting Activities: GSA/FAS Center of Innovative Acquisition DEV, Arlington, VA.

Federal Emergency Management Agency (FEMA), NETC Acquisition Section, Washington, DC.

NSN: 7045-01-484-1764—Mouse Pad w/Calculator.

NPA: MidWest Enterprises for the Blind, Inc., Kalamazoo, MI.

Contracting Activity: General Services Administration, New York, NY.

Clock, Wall, Battery

NSN: 6645-01-467-8475

NSN: 6645-01-467-8476

Clock, Atomic, Standard, Thermometer

NSN: 6645-01-491-9806

NSN: 6645-01-491-9816

NSN: 6645-01-491-9824

NSN: 6645-01-491-9827

NSN: 6645-01-491-9836

NSN: 6645-01-499-0892

NSN: 6645-01-499-0893

NSN: 6645-01-499-0894

NSN: 6645-01-499-0896

NSN: 6645-01-492-0900

Clock, Wall, Customized

NSN: 6645-01-456-5010

NSN: 6645-01-456-6035

Clock, Wall

NSN: 6645-01-421-6900

NSN: 6645-01-421-6909

Slimline Wall Clock

NSN: 6645-01-516-9631—12″ Putty Case.

NPA: The Chicago Lighthouse for People Who Are Blind or Visually Impaired, Chicago, IL.

Contracting Activity: General Services Administration, New York, NY.

Services

Service Type/Location: Receiving, Shipping, Handling & Custodial Service, Brunswick Naval Air Station, 35 Dominion Avenue, Building 335, Topsham, ME.

NPA: Pathways, Inc., Auburn, ME.

Contracting Activity: Defense Commissaryagency (DECA), Fort Lee, VA.

Service Type/Location: Grounds Maintenance Service, Fort Sam Houston: Quarters and Common Areas, Fort Sam Houston, TX.

NPA: Goodwill Industries of San Antonio, San Antonio, TX.

Contracting Activity: Dept of the Army, W40M Natl Region Contract OFC, Fort Belvoir, VA.

Service Type/Location: Parts Sorting Service, Kelly Air Force Base: Defense Reutilization and Marketing Office, Kelly AFB, TX.

NPA: Goodwill Industries of San Antonio, San Antonio, TX.

Contracting Activity: Dept of the Air Force, FA7014 AFDW A7KI, Andrews AFB, MD.

Service Type/Location: Grounds Maintenance Service, Kelly Air Force Base: Military Family Housing, Kelly AFB, TX.

NPA: Goodwill Industries of San Antonio, San Antonio, TX.

Contracting Activity: Dept of the Air Force, FA7014 AFDW A7KI, Andrews AFB, MD.

Service Type/Location: Laundry Service, Fort Sam Houston/Fort Hood, TX.

NPA: Goodwill Industries of San Antonio, San Antonio, TX.

Contracting Activity: Dept of the Army, W40M NATL Region Contract OFC, FORT BELVOIR, VA.

Service Type/Location: Recycling Service, Kelly Air Force Base: Basewide, Kelly AFB, TX.

NPA: Goodwill Industries of San Antonio, San Antonio, TX.

Contracting Activity: Dept of the Air Force, FA7014 AFDW A7KI, Andrews AFB, MD.

Service Type/Location: Linen Service, Fort Hood: Postwide, Fort Hood, TX.

NPA: Goodwill Industries of San Antonio, San Antonio, TX.

Contracting Activity: Dept Of The Army, W40M NATL Region Contract OFC, FORT BELVOIR, VA.

Service Type/Location: Grounds Maintenance Service, Kelly Air Force Base: Basewide (except Military Family Housing), Kelly AFB, TX.

NPA: Training, Rehabilitation, & Development Institute, Inc., San Antonio, TX.

Contracting Activity: Dept of the Air Force, FA7014 AFDW A7KI, Andrews AFB, MD.

Service Type/Location: Petroleum Support Service, Fort Sam Houston/Camp Bullis, TX.

NPA: Goodwill Industries of San Antonio, San Antonio, TX.

Contracting Activity: Dept of the Army, W40M NATL Region Contract OFC, FORT BELVOIR, VA.

Service Type/Location: Operation of Postal Service Center/BITS Service, Brooks Air Force Base: Base Wide, Brooks AFB, TX.

NPA: Goodwill Industries of San Antonio, San Antonio, TX.

Contracting Activity: Dept of the Air Force, FA7014 AFDW A7KI, Andrews AFB, MD.

Barry S. Lineback,
Director, Business Operations.

[FR Doc. 2013-14874 Filed 6-20-13; 8:45 am]

BILLING CODE 6353-01-P